COMMODITY FUTURES TRADING COMMISSION

17 CFR Parts 3 and 170

RIN Number 3038-AB84

Notice Registration as a Futures Commission Merchant or Introducing Broker for Certain Securities Brokers or Dealers

AGENCY: Commodity Futures Trading Commission.

ACTION: Reopening and extension of comment period.

SUMMARY: On May 17, 2001, the Commodity Futures Trading Commission (“CFTC”) published in the Federal Register a request for public comment on a proposal to amend Rule 3.10, so as to provide notice registration as a futures commission merchant (“FCM”) or introducing broker (“IB”) for certain securities brokers or dealers (“BDs”), and to amend Rule 170.15, so as to exempt these BDs from the requirement to become a member of the National Futures Association (“CFTC Proposal”).¹ Among other things, these BDs would be required to be registered with the Securities and Exchange Commission (“SEC”) and to limit their involvement with commodity interests to security futures products. The CFTC Proposal was made in accordance with the Commodity Futures Modernization Act of 2000 (“CFMA”). In response to a request it has received, the CFTC is extending the comment period on the CFTC Proposal to July 11, 2001.

¹ 66 FR 27476.

DATES: Written comments must be received on or before July 11, 2001.

ADDRESSES: Comments on the proposal should be sent to Jean A. Webb, Secretary, Commodity Futures Trading Commission, Three Lafayette Center, 1155 21st Street, NW, Washington, DC 20581. Comments may be sent by facsimile transmission to (202) 418-5521, or by e-mail to secretary@cftc.gov. Reference should be made to “Notice Registration as a Futures Commission Merchant or Introducing Broker for Certain Securities Brokers or Dealers.”

FOR FURTHER INFORMATION CONTACT: Barbara S. Gold, Assistant Chief Counsel, or Lawrence B. Patent, Associate Chief Counsel, Division of Trading and Markets, Commodity Futures Trading Commission, Three Lafayette Center, 1155 21st Street NW, Washington, D.C. 20581, (202) 418-5450, electronic mail: bgold@cftc.gov, or lpatent@cftc.gov.

SUPPLEMENTARY INFORMATION: The CFTC Proposal would provide for notice registration as an FCM or IB for certain BDs subject to the condition that they limit their commodity interest-related activity to security futures products. The comment period on the CFTC Proposal expires June 18, 2001. The CFMA also authorizes notice registration as a BD with the SEC of certain FCMs and IBs for the limited purpose of effecting transactions in security futures products. The SEC has not, however, as of this date published for comment in the Federal Register a notice registration proposal for such FCMs and IBs (“SEC Proposal”).

Because it would like the opportunity to review the SEC Proposal before commenting on the CFTC Proposal, the Futures Industry Association (“FIA”) has requested an extension of time of the comment period on the CFTC Proposal. In response, the CFTC has determined to extend the comment period on the CFTC Proposal until July 11, 2001 in order to insure that an adequate opportunity is provided for submission of meaningful comments.

This date is intended to provide the FIA with its requested “two-week extension . . . from the date the SEC's release is published.” However, in the event the date of July 11, 2001 is not sufficient to provide for the requested two-week extension, the CFTC intends to provide for another extension of the comment period on the CFTC Proposal so as to in fact provide interested persons with two weeks after the date of publication in the Federal Register of the SEC Proposal in which to comment on the Proposal.

Issued in Washington, D.C. on June 18, 2001 by the Commission.
Jean A. Webb,
Secretary of the Commission.

[FR Doc. 01-15724 Filed 6-21-01; 8:45 am]

BILLING CODE 6351-01-M